DEPARTMENT OF THE TREASURY

Submission for OMB review; Comment Request

July 19, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 25, 2000 to be assured of consideration.

Bureau of Alcohol, Tobacco and Firearms (BATF)

OMB Number: 1512-0018.

Form Number: ATF F 6, Part II (5330.3B).

Type of Review: Extension.

Title: Application and Permit for Importation of Firearms, Ammunition and Implements of War.

Description: This information collected is needed to determine whether firearms, ammunition and implements of war are eligible for importation into the United States. This information is used to secure authorization to import such articles. Forms are used by persons who are members of the United States Armed Forces.

Respondents: Individuals or households, Business of other for-profit, Federal Government, State, Local or Tribal Government.

Estimated Number of Respondents: 9,000.

Estimated Burden Hours Per Respondent: 30 minutes.

Frequency of Response: On occasion.

Estimated Total Reporting Burden: 4,500 hours.

OMB Number: 1512-0215.

Recordkeeping Requirement ID Number: ATF REC 5110/10.

Form Number: ATF F 5110.75.

Type of Review: Extension.

Title: Alcohol Fuel Plants (AFP) Records, Reports and Notices.

Description: Data is necessary (1) To determine that persons are qualified to produce alcohol for fuel purposes and to identify such persons, (2) to account for distilled spirits produced and verify its proper disposition and (3) to keep registrations current and evaluate permissible variations from prescribed procedures.

Respondents: Business of other for-profit, Farms.

Estimated Number of Respondents/Recordkeepers: 871.

Estimated Burden Hours Per Respondent/Recordkeeper: 1 hour.

Frequency of Response: Annually.

Estimated Total Reporting/Recordkeeping Burden: 871 hours.

OMB Number: 1512-0352.

Recordkeeping Requirement ID Number: ATF REC 170/1.

Type of Review: Extension.

Title: Importer's Records and Reports.

Description: Importers are required to maintain usual and customary business records and file letter applications or notices related to specific regulatory activities.

Respondents: Federal Government.

Estimated Number of Recordkeepers: 500.

Estimated Burden Hours Per Recordkeeper: 30 minutes.

Frequency of Response: On occasion.

Estimated Total Recordkeeping Burden: 251 hours.

OMB Number: 1512-0367.

Recordkeeping Requirement ID Number: ATF REC 5220/1.

Type of Review: Extension.

Title: Tobacco Export Warehouse-Record of Operations.

Description: Tobacco Export Warehouses store untaxpaid tobacco products until they are exported. Record is used to maintain accountability over these products. Allows ATF to verify that all products have been exported or tax liabilities satisfied. Protects tax revenues.

Respondents: Business of other for-profit.

Estimated Number of Recordkeepers: 221.

Estimated Burden Hours Per Recordkeeper: 1 hour.

Frequency of Response: On occasion.

Estimated Total Recordkeeping Burden: 1 hour.

OMB Number: 1512-0378.

Recordkeeping Requirement ID Number: ATF REC 5530/1.

Type of Review: Extension.

Title: Applications and Notices—Manufacturers of Nonbeverage Products.

Description: Reports (Letterhead Applications and Notices) are submitted by manufacturers of nonbeverage products who are using distilled spirits on which drawback will be claimed. Reports ensure that operations are in compliance with law; prevents spirits from diversion to beverage use. Protects the revenue.

Respondents: Business of other for-profit.

Estimated Number of Recordkeepers: 640.

Estimated Burden Hours Per Recordkeeper: 30 minutes.

Frequency of Response: On occasion.

Estimated Total Recordkeeping Burden: 640 hours.

OMB Number: 1512-0392.

Recordkeeping Requirement ID Number: ATF REC 5190/1.

Type of Review: Extension.

Title: Records of Things of Value to Retailers, and Occasional Letter Reports from Industry Members Regarding Information on Sponsorships, Advertisements, Promotions, etc., Under the Federal Alcohol Administration Act.

Description: These records and occasional letter reports are used to show compliance with the provisions of the Federal Alcohol Administration Act which prevents wholesalers, producers, or importers from giving things of value to retail liquor dealers, and prohibits industry members from conducting certain types of sponsorships, advertising, promotions, etc.

Respondents: Business of other for-profit, Individuals or households.

Estimated Number of Recordkeepers: 12,665.

Estimated Burden Hours Per Respondent: 1 hour.

Frequency of Response: On occasion.

Estimated Total Recordkeeping Burden: 51 hours.

OMB Number: 1512-0506.

Form Number: ATF F 5600.38.

Type of Review: Extension.

Title: Application For Extension of Time For Payment of Tax.

Description: ATF uses the information on the form to determine if a taxpayer is qualified to extend payment based on circumstances beyond the taxpayers control.

Respondents: Business of other for-profit.

Estimated Number of Respondents: 12.

Estimated Burden Hours Per Respondent: 15 minutes..

Frequency of Response: On occasion.

Estimated Total Reporting Burden: 3 hours.

OMB Number: 1512-0514.

Form Number: ATF F 5154.2.

Type of Review: Extension.

Title: Supporting Data for Nonbeverage Drawback Claims.

Description: Data required to be submitted by manufacturers of nonbeverage products are used to verify claims for drawback of taxes and hence, protect the revenue. Maintains accountability, allows office (initial) verification of claims.

Respondents: Business of other for-profit.

Estimated Number of Respondents: 590 .

Estimated Burden Hours Per Respondent: 1 hour.

Frequency of Response: Quarterly.

Estimated Total Reporting Burden: 3540 hours.

OMB Number: 1512-0541.

Form Number: ATF F 3312.1 and ATF F 3312.2.

Type of Review: Extension.

Title: National Tracing Center Trace Request and NTC Obliterated Serial Number Trace Request.

Description: These forms are used by the Federal, State, local, and international law enforcement community to request that ATF trace firearms used or suspected to have been used in crimes.

Respondents: Federal Government, State, Local or Tribal Government.

Estimated Number of Respondents: 99,255.

Estimated Burden Hours Per Respondent: 6 minutes per form.

Frequency of Response: On occasion.

Estimated Total Reporting Burden: 198,015 hours.

Clearance Officer: Frank Bowers (202) 927-8930, Bureau of Alcohol, Tobacco and Firearms, Room 3200, 650 Massachusetts Avenue, NW, Washington, DC 20226.

OMB Reviewer: Alexander T. Hunt (202) 395-7860, Office of Management and Budget, Room 10202, New Executive Office Building, Washington, DC 20503.

Lois K. Holland,
Departmental Reports, Management Officer.

[FR Doc. 00-18845 Filed 7-25-00; 8:45 am]

BILLING CODE 4810-31-P